NATIONAL FOUNDATION ON THE ARTS AND HUMANITIES

Proposed Collection, Submission for OMB Review; General Clearance for Grant Application and Report Forms

AGENCY: Institute of Museum and Library Services.

ACTION: Notice.

SUMMARY: The Institute of Museum and Library Services announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the contact section below on or before May 25, 2007.

OMB is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Barbara G. Smith, E-Projects Officer, Institute of Museum and Library Services, 1800 M Street, NW., 9th Floor, Washington, DC. Ms. Smith can be reached by telephone: 202-653-4688; fax: 202-653-8625; or e-mail: bsmith@imls.gov.

SUPPLEMENTARY INFORMATION:

Background: The Institute of Museum and Library Services (IMLS) is an independent Federal grant-making agency authorized by the Museum and Library Services Act, Pub. L. 104-208. The Institute of Museum and Library Services is the primary source of federal support for the nation's 122,000 libraries and 17,500 museums. The Institute's mission is to create strong libraries and museums that connect people to information and ideas. The Institute works at the national level and in coordination with state and local institutions and organizations to sustain heritage, culture, and knowledge; enhance learning and innovation; and support professional development. To carry out its statutory mission the Institute administers a number of discretionary and formula grant programs to strengthen museum and library service in the United States.

The Institute provides funding opportunities to the full range of museums, including art, history, science and technology, children's, natural history, historic houses, nature centers, botanical gardens and zoos; and all type of libraries including public, school, academic, research and archives. The Institute provides funding and encouragement to spur research, evaluation, policy analysis and partnerships making it possible for museums and libraries to be leaders in their communities.

The information collected in the Institute's grant application and reporting forms is needed so that the Institute can to support the most effective library and museum practices and disseminate project results that can raise standards throughout the nation.

Current Actions: This notice proposes general clearance of the agency's guideline application and report forms. The 60-day Notice for the “General Clearance for Guidelines, Applications, and Reporting Forms” was published in the Federal Register on November 3, 2006 (FR vol. 71, No. 213, pgs. 64746-64747.) No comments were received.

Agency: Institute of Museum and Library Services.

Title: IMLS Guidelines, Applications and Reporting Forms.

OMB Number: 3137-0029, 3137-0049, 3137-0056, 3137-0057; 3137-0060; 3137-0065.

Agency Number: 3137.

Frequency: Annually, Semi-annually.

Affected Public: State Library Administrative Agencies, museums, libraries, institutions of higher education, library and museum professional associations, museum and library professionals, and Native American tribes.

Number of Respondents: 1,700.

Estimated Time per Respondent: .25-60 hours.

Total Burden Hours: 65,735.

Total Annualized capital/startup costs: 0.

Total Annual Costs: $1,553,975.

FOR FURTHER INFORMATION CONTACT: Comments should be sent to the Office of Information and Regulatory Affairs, Attn.: OMB Desk Officer for Education, Office of Management and Budget, Room 10235, Washington, DC 20503 (202) 395-7316.

Dated: April 19, 2007.
Barbara G. Smith,
E-Projects Officer, Office of Information Resources Management.

[FR Doc. E7-7818 Filed 4-24-07; 8:45 am]

BILLING CODE 7036-01-P